NATIONAL SCIENCE FOUNDATION

Agency Information Collection Activities: Proposed Collection, Comment Request

AGENCY: National Science Foundation.

ACTION: Notice.

SUMMARY: The National Science Foundation (NSF) is announcing plans to request clearance of this collection. In accordance with the requirement of section 3506(c)(2)(A) of the Paperwork Reduction Act of 1995, we are providing opportunity for public comment on this action. After obtaining and considering public comment, NSF will prepare the submission requesting OMB clearance of this collection for no longer than 3 years.

Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

DATES: Written comments should be received by January 14, 2002, to be assured of consideration. Comments received after that date would be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpo@nsf.gov.

FOR FURTHER INFORMATION CONTACT: Suzanne Plimpton on (703) 292-7556 or send mail to splimpto@nsf.gov. Individuals who use a telecommunications device for the deaf (TDD) may call the Federal Information Relay Service (FIRS) at 1-800-877-8339 between 8 a.m. and 8 p.m., Eastern time, Monday through Friday.

SUPPLEMENTARY INFORMATION: Title of Collection: An Evaluation of the Impact of Adoption and Use of the Office of Science Education Curriculum Supplements on Students' Scientific Knowledge.

OMB Control No.: 3145-NEW.

Expiration Date of Approval: Not applicable.

Type of Request: Intent to seek approval to carry out a new information collection.

1. Abstract

The National Science Foundation (NSF) has provided funding for systematically developed, research-based curriculum materials beginning in the 1960s. NSF has the responsibility of coordinating evaluations of mathematics and science education programs across government, including agencies such as the National Institutes of Health (NIH). Since its establishment as part of NIH, the Office of Science Education (OSE) has engaged in the development of science curriculum supplements and other educational materials related to medicine and research. NSF and NIH will partner in this evaluation because both desire information on the effectiveness of curriculum materials and the effective means to collect this information. Over the years, there have been changes in the levels of funding for such instructional materials, reflecting changes in public support and concerns for such endeavors. However, concerns about student achievement in science have focused attention on the need for strong curriculum materials to support “systemic reform” (O'Day & Smith, 1993). NSF has responded to these needs by increasing support to research-based instructional materials that have been reviewed by content experts and found to be of high quality and meet the demands of the National Science Education Standards (NSES).

The proposed evaluation's study questions to be addressed are: Do the curriculum supplements promote better science education? Do the curriculum supplements reduce academic inequity? Do the curriculum supplements deepen students' understanding of the importance of basic research to advances in medicine and health? Do the curriculum supplements foster student analysis of the direct and indirect effects of scientific discoveries on their individual and public health? Do the curriculum supplements encourage students to take more responsibility for their own health?

The data to address these questions will be gathered using mixed methods. In addition to assessing student achievement data and using surveys, the mixed-methods evaluation model will include pre-observation questionnaires, observations, and interviews of teachers. Interviews and observations, for example, will enable research evaluators to clarify vague responses in surveys or confirm findings. As part of the evaluation, pre- and post-assessment will be used for NIH Curriculum Supplement Series for Grades 9-12 to compare students' learning of scientific concepts and skills when a supplement of NIH materials will be used, with students who do not receive the NIH materials. Teacher and student surveys, interviews, site visits, document reviews, standardized performance measures, and student work samples will provide the basis for comparison.

2. Expected Respondents

The expected respondents and observation subjects are pre-college teachers and students.

3. Burden on the Public

The total annual burden hours for this collection are 2,632 for a maximum of 3744 respondents, assuming an 80-100% response rate. The average annual reporting burden is one hour or less per respondent. The burden on the general public is small because the study is limited to a 10 percent random sample of the 12,000 teachers who have requested the materials being studied, a sample of impacted students, and 60 treatment and 60 comparison teachers.

Dated: November 7, 2001.
Suzanne H. Plimpton,
NSF Reports Clearance Officer.

[FR Doc. 01-28431 Filed 11-13-01; 8:45 am]

BILLING CODE 7555-01-M